OFFICE OF PERSONNEL MANAGEMENT

Personnel Demonstration Project; Pay Banding and Performance-Based Pay Adjustments in the National Nuclear Security Administration; Correction

AGENCY: U.S. Office of Personnel Management.

ACTION: Notice of approval of a demonstration project final plan; correction.

SUMMARY: The U.S. Office of Personnel Management published a document in the Federal Register on December 21, 2007, announcing the final approval of a demonstration project plan for the U.S. Department of Energy's National Nuclear Security Administration. The document contained three errors.

FOR FURTHER INFORMATION CONTACT: U.S. Office of Personnel Management: Patsy Stevens, Systems Innovation Group Manager, U.S. Office of Personnel Management, (202) 606-1574.

Correction

In FR Doc. 07-6144 published on December 21, 2007 (72 FR 72776), make the following corrections. On page 72792, in the second column, in the second paragraph under the heading “Other Pay Administration Provisions,” the parenthetical clause in the sixth and seventh line should read, “(except as otherwise provided in this plan).”

On page 72800, in the third column, the second paragraph under the section “X. Waiver of Laws and Regulations” should read as follows:

Chapter 51: Classification (except that (1) section 5103 is retained and modified after “finally” to read “the coverage of positions and employees under this modified classification system,” (2) sections 5111 and 5112 are retained with “grade” replaced by “pay bands,” and (3) for the purpose of applying any other laws, regulations, or policies that refer to GS employees or to chapter 51 of title 5, United States Code, the modified classification system established under this plan must be considered to be a GS classification system under chapter 51; this includes, but is not limited to, the reference to the General Schedule in section 5545(d) (relating to hazard pay)).

On page 72801, in the second column, the third paragraph should read as follows:

Chapter 75, section 7512(3): Adverse actions (only to the extent necessary to replace “grade” with “band”).

Linda M. Springer,
Director.

[FR Doc. E8-17581 Filed 7-30-08; 8:45 am]

BILLING CODE 6325-43-P